DEPARTMENT OF STATE

[Delegation of Authority No. 356-1]

Delegation of the Secretary of State's Authorities in Title 8 of the United States Code Sections 1182e and 1182f to the Assistant Secretary for Consular Affairs and the Assistant Secretary of Democracy, Human Rights and Labor

By virtue of the authority vested in the Secretary of State, including the authority contained in 22 U.S.C. 2651a and 22 U.S.C. 2656, and 8 U.S.C. 1182e and 1182f, and delegated pursuant to Delegation of Authority 245-1, dated February 13, 2009, and to the extent authorized by law, I hereby delegate the authorities and duties vested in the Secretary of State, as follows:

a. To the Assistant Secretary for Democracy, Human Rights and Labor, in accordance with 22 U.S.C. 1182e and 1182f, and in consultation with other officials as appropriate, the authority to “find, based on credible and specific information” that a foreign national is or has been directly involved in the activities prohibited in § 1182e(a) and § 1182f(a), and to determine whether there are “substantial grounds for believing that the foreign national has discontinued his or her involvement with, and support for, such practices.”

b. To the Assistant Secretary for Consular Affairs, in consultation with other officials as appropriate, the authority to direct consular officers not to issue visas under § 1182e(a) or § 1182f(a) as well as to waive the prohibitions set forth in those sections; and

c. To the Assistant Secretary for Consular Affairs, the authority to submit to Congress written notification of waiver justifications required by § 1182e(c)(2) and § 1182f(c)(2), based on determinations made by the Secretary or other official with delegated authority.

Any act, executive order, regulation, or procedure subject to, or affected by, this delegation shall be deemed to be such act, executive order, regulation, or procedure as amended from time to time. This delegation of authority revokes Delegation of Authority 356, dated April 12, 2013, but does not supersede or otherwise affect any other delegation of authority to submit Congressional notifications.

The Assistant Secretaries of Consular Affairs and Democracy, Human Rights and Labor may, to the extent consistent with applicable law, redelegate these functions within their respective bureaus, with the limitation that waiver authority may not be delegated below the level of Deputy Assistant Secretary.

Notwithstanding this delegation of authority, the Secretary, the Deputy Secretary, and the Deputy Secretary for Management and Resources may at any time exercise any authority or function delegated hereunder. The Under Secretary for Management may at any time exercise any authority or function that is delegated herein to the Assistant Secretary of Consular Affairs. The Under Secretary of Civilian Security, Democracy, and Human Rights may at any time exercise any authority or function that is delegated herein to the Assistant Secretary of Democracy, Human Rights and Labor.

This delegation of authority shall be published in the Federal Register.

Dated: March 16, 2016.
Antony J. Blinken,
Deputy Secretary of State, Department of State.

[FR Doc. 2016-07808 Filed 4-4-16; 8:45 am]

BILLING CODE 4710-18-P